NATIONAL AERONAUTICS AND SPACE ADMINISTRATION

[Notice 10-013]

NASA Advisory Council; meeting

AGENCY: National Aeronautics and Space Administration.

ACTION: Notice of Meeting.

SUMMARY: In accordance with the Federal Advisory Committee Act, Public Law 92-463, as amended, the National Aeronautics and Space Administration announces a meeting of the Aeronautics Committee of the NASA Advisory Council. The meeting will be held for the purpose of soliciting from the aeronautics community and other persons research and technical information relevant to program planning.

DATES: Tuesday, February 16, 2010, 12 p.m. to 5 p.m.; Wednesday, February 17, 2010, 9 a.m. to 3 p.m.

ADDRESSES: NASA Headquarters, 300 E Street, SW., Washington, DC, Room 6B42.

FOR FURTHER INFORMATION CONTACT: Ms. Susan L. Minor, Executive Secretary for the Aeronautics Committee, National Aeronautics and Space Administration Headquarters, Washington, DC 20546, (202) 358-0566, or susan.l.minor@nasa.gov.

SUPPLEMENTARY INFORMATION: The meeting will be open to the public up to the capacity of the room. The agenda for the meeting includes the following topics:

• NASA Aeronautics Overview Briefing, including partnership strategy.

• Future Directions for NASA Aeronautics.

• Aeronautics Committee 2010 Work Plan discussion.

It is imperative that these meetings be held on this date to accommodate the scheduling priorities of the key participants. Attendees will be requested to comply with NASA security requirements, including the presentation of a valid picture ID, before receiving an access badge. Foreign nationals attending this meeting will be required to provide a copy of their passport, visa, or green card in addition to providing the following information no less than 10 working days prior to the meeting: full name; gender; date/place of birth; citizenship; visa/green card information (number, type, expiration date); passport information (number, country, expiration date); employer/affiliation information (name of institution, address, country, phone); and title/position of attendee. To expedite admittance, attendees with U.S. citizenship can provide identifying information 3 working days in advance by contacting Ms. Susan L. Minor via e-mail at susan.l.minor@nasa.gov or by telephone at (202) 358-0566. Persons with disabilities who require assistance should indicate this.

Dated: January 22, 2010.
P. Diane Rausch,
Advisory Committee Management Officer, National Aeronautics and Space Administration.

[FR Doc. 2010-1739 Filed 1-27-10; 8:45 am]

BILLING CODE 7510-13-P